DEPARTMENT OF LABOR

Mine Safety and Health Administration

Brookwood-Sago Mine Safety Grants

AGENCY: Mine Safety and Health Administration, Labor.

ACTION: Solicitation for grant applications.

Announcement Type: New.

Funding Opportunity Number: SGA 07-01.

Catalog of Federal Domestic Assistance Number: 17.603.

SUMMARY: The U.S. Department of Labor, Mine Safety and Health Administration (MSHA), is making $500,000 available in grant funds for educational and training programs to help identify, avoid, and prevent unsafe working conditions in and around mines. The focus of these grants will be on training and training materials for mine rescue and mine emergency preparedness in underground coal mines. Applicants for the grants may be States and nonprofit (private and public) entities. MSHA could award as many as 10 separate grants with a 12-month period of performance. The amount of each individual grant will be at least $50,000. This notice contains all of the necessary information needed to apply for grant funding.

DATES: Grant applications must be received electronically by the Grants.gov system no later than 4:30 p.m., E.T., on August 24, 2007, the application deadline date. Applicants must contact the MSHA Directorate of Educational Policy and Development office listed on the announcement at least one week prior to the application deadline date, (or no later than 4:30 p.m., E.T., on Friday, August 13, 2007) to speak to a representative who can provide assistance to ensure that applications are submitted online by the closing date. Requests for extensions to this deadline will not be granted. MSHA will award grants on or before September 30, 2007.

ADDRESSES: Applications for grants submitted under this competition must be submitted electronically using the Government-wide site at http://www.grants.gov. If applying online poses a hardship to any applicant, the MSHA Directorate of Educational Policy and Development will provide assistance to ensure that applications are submitted online by the closing date. MSHA's Web page at www.msha.gov is a valuable source of background for this initiative.

FOR FURTHER INFORMATION CONTACT: Any questions regarding this solicitation for grant applications (SGA 07-01) should be directed to Robert Glatter at Glatter.Robert@dol.gov or at 202-693-9570 (this is not a toll-free number).

SUPPLEMENTARY INFORMATION: This solicitation provides background information and the critical elements required of projects funded under the solicitation. It also describes the application submission requirements, the process that eligible applicants must use to apply for funds covered by this solicitation, and how grantees will be selected. Further information regarding submitting the grant application electronically is listed in Section IV.C, Submission Date, Times, and Addresses. This solicitation consists of eight parts:

• Part I provides background information on the Brookwood-Sago grants.

• Part II describes the size and nature of the anticipated awards.

• Part III describes the qualifications of an eligible applicant.

• Part IV provides information on the application and submission process.

• Part V explains the review process and rating criteria that will be used to evaluate applications.

• Part VI provides award administration information.

• Part VII contains MSHA contact information.

• Part VIII addresses Office of Management and Budget information collection requirements.

I. Funding Opportunity Description

A. Overview of the Brookwood-Sago Mine Safety Training Grant Program

Responding to several coal mine disasters last year, Congress enacted the Mine Improvement and New Emergency Response Act of 2006 (MINER Act). Section 14 of the MINER Act requires the Secretary to establish a discretionary competitive grant program called the Brookwood-Sago Mine Safety Grants (Brookwood-Sago grants). This program provides funding to educate and train miners to better identify, avoid, and prevent unsafe working conditions in and around mines. This program will use grant funds to establish and implement education and training programs or to create training materials and programs. The MINER Act requires the Secretary to give priority to mine safety demonstrations and pilot projects with broad applicability. It also mandates that the Secretary shall emphasize programs and materials that target workers in smaller mines, to include training on new MSHA standards, high-risk activities, and other identified health and safety priorities.

B. Educational and Training Program Priorities

MSHA priorities for the fiscal year (FY) 2007 funding of the Brookwood-Sago grants will focus on training and training materials for mine rescue and mine emergency preparedness in underground coal mines. MSHA expects Brookwood-Sago grantees to develop training materials or to develop and provide mine safety and health training and/or educational programs, recruit workers and employers for the training, and conduct and evaluate the training on one of MSHA-selected priorities. Grantees are also expected to conduct follow-up evaluations with people trained by their program to determine how effective their training was in either reducing hazards or improving skills for the selected training topics and cooperate fully with MSHA evaluations of the program. If Brookwood-Sago applicant is not the entity operating the MSHA-approved State training grant, MSHA expects the applicant to contact the State grantee(s) and coordinate any proposed training or educational program with the applicable State(s) in order not to duplicate any training or educational program offered. An applicant's proposed area for the grant may cover more than one State.

II. Award Information

A. Award Amount for FY 2007

MSHA is providing $500,000 total for the FY 2007 Brookwood-Sago, which could be divided into as many as 10 separate grants. The amount of each individual grant will be at least $50,000.00. Applicants requesting less than $50,000 or more than $500,000 will not be considered for funding.

B. Period of Performance

The period of performance will be 12 months from the date of execution of the grant documents. This performance period must include all necessary implementation and start-up activities as well as follow-up for performance outcomes. A timeline clearly detailing these required grant activities and their expected completion dates must be included in the grant application. MSHA may approve a request for a no-cost extension to grantees for an additional period of time based on the success of the project and other relevant factors.

III. Eligibility Information

A. Eligible Applicants

Applicants for the grants may be States and nonprofit (private or public) entities. Eligible entities may apply for funding independently or in partnership with other eligible organizations. For partnerships, a lead organization must be identified.

Applicants other than States and State-or local government-supported institutions of higher education will be required to submit evidence of nonprofit status, preferably from the Internal Revenue Service. A nonprofit entity as described in 26 U.S.C. 501(c)(4), which engages in lobbying activities, is not eligible for a grant award. See 2 U.S.C. 1611.

B. Cost-Sharing or Matching

Cost-sharing or matching of funds is not required for eligibility. The leveraging of public and/or private resources to achieve project sustainability, however, is highly encouraged and will be awarded up to 10 application evaluation points.

C. Other Eligibility Requirements

1. Dun and Bradstreet Number

Since October 1, 2003, every applicant for a Federal grant funding opportunity is required to include a DUNS number with its application. An applicant's DUNS number is to be entered into Block 8 of Standard Form (SF) 424. The DUNS number is a nine-digit identification number that identifies business entities uniquely. There is no charge for obtaining a DUNS number. To obtain a DUNS number, call 1-866-705-5711 or access the following Web site: http://dunandbradstreet.com/.

After receiving a DUNS number, all grant applicants must also register as a vendor with the Central Contractor Registration (CCR) through the Web site http://www.ccr.gov or by phone at 1-888-227-2423. CCR registration should become active within 24 hours of completion. After registration, grant applicants will receive a confirmation number. The grant applicant must list an individual as the Point of Contact, who will receive a Trader Partnership Identification Number (TPIN) via mail. The TPIN is, and should remain, a confidential password.

2. Legal Rules Pertaining to Inherently Religious Activities by Organizations That Receive Federal Financial Assistance

The government generally is prohibited from providing direct Federal financial assistance for inherently religious activities. See 29 CFR part 2, subpart D. Grants under this solicitation may not be used for religious instruction, worship, prayer, proselytizing, or other inherently religious activities. Neutral, non-religious criteria that neither favor nor disfavor religion will be employed in the selection of grant recipients and must be employed by grantees in the selection of sub-recipients.

3. Non-Compliant Applications

Applications that are lacking any of the required elements or do not follow the format prescribed in IV.B will not be reviewed.

4. Late Applications

Applications received after the deadline will not be reviewed unless it is determined to be in the best interest of the Government.

IV. Application and Submission Information

A. Application Forms

This announcement includes all information and links needed to apply for this funding opportunity. The full application is available through Grants.gov, Apply for Grants. The CFDA number needed to locate the appropriate application for this opportunity is 17.603. If an applicant has problems downloading the application package from Grants.gov, contact Grants.gov Customer Support at 1-800-518-4726 or support@grants.gov. Also, the complete Federal Register notice and application forms may also be downloaded from MSHA Web site at www.msha.gov.

B. Content and Form of the Application

Each grant application must address either mine rescue or mine emergency preparedness for underground coal mines. Organizations interested in applying for funds on more than one of these topics must submit separate applications for each topic. The application must consist of three separate and distinct sections. The three required sections are:

• Section 1—Project Financial Plan and Forms (No page limit).

• Section 2—Project Summary (Not to exceed 2 pages).

• Section 3—Technical Proposal (Not to exceed 10 pages) Illustrative material can be submitted as an attachment.

The following are mandatory requirements for each section.

1. Project Financial Plan and Forms

This section contains the forms and budget section of the application. The Project Financial Plan will not count against the application page limits. A person with authority to bind the applicant must sign the application and forms. Applications submitted electronically through Grants.gov do not need to be signed manually; the form will automatically affix an electronic signature for the authorized person identified.

(a) Completed SF 424, “Application for Federal Assistance.” This form is available online at http://apply.grants.gov/apply/FormLinks?category=1, identified in the boxes as Government Wide “Application for Federal Assistance (SF-424)” and also is available at www.msha.gov. The SF 424 must identify the applicant clearly and be signed by an individual with authority to enter into a grant agreement. Upon confirmation of an award, the individual signing the SF 424 on behalf of the applicant shall be considered the representative of the applicant.

(b) Completed SF 424A, “Budget Information Form.” This form is available online at http://apply.grants.gov/apply/FormLinks?category=4, identified in the boxes as Government Wide “Budget Information for Non-Construction Programs (SF-424A)” and also is available at www.msha.gov. The project budget should demonstrate clearly that the total amount and distribution of funds is sufficient to cover the cost of all major project activities identified by the applicant in its proposal, and must comply with Federal cost principles and the administrative requirements set forth in this SGA. (Copies of all regulations that are referenced in this SGA are available on-line at www.msha.gov.)

Among other things, the budget should include the costs of travel for two staff members (one program and one financial) to the National Mine Health and Safety Academy in Beckley, West Virginia to attend a grantee orientation meeting; a financial audit, if required; project closeout; document preparation (e.g., quarterly progress reports, project document); and ensuring compliance with procurement and property standards under applicable OMB circulars.

(c) Budget Narrative. The applicant must provide a concise narrative explaining the request for funds. The budget narrative should separately attribute the Federal funds and leveraged resources to each of the activities specified in the technical proposal; and it should discuss precisely how any administrative costs support the project goals. Indirect cost charges, which are considered administrative costs, must be supported with a copy of an approved Indirect Cost Rate Agreement. Indirect Costs are those costs that are not readily identifiable with a particular cost objective but nevertheless are necessary to the general operation of an organization, e.g., personnel working in Accounting. Administrative costs may not exceed 15% of the total grant budget.

If applicable, the applicant must provide a statement about its program income. Program income is gross income earned by the grantee directly generated by a supported activity, or earned as a result of the award.

Any leveraged resources should not be listed on the SF 424 or SF 424A Budget Information Form, but must be described in the budget narrative and in the technical proposal of the application (as described in Part IV.B.3(d) of this SGA). The amount of Federal funding requested for the entire period of performance must be shown on the SF 424 and SF 424A Budget Information Form.

(d) Completed SF 424B, “Assurances, Non-Construction Programs.” Each applicant for these grants must certify compliance with a list of assurances. This form is available online at http://apply.grants.gov/apply/FormLinks?category=2, identified in the boxes as government wide “Assurances for Non-Construction Programs (SF-424B)” and also is available at www.msha.gov.

(e) Supplemental Certification Regarding Lobbying Activities form. If any funds have been paid or will be paid to any person for influencing or attempting to influence an officer or employee of any agency, a Member of Congress, an officer or employee of Congress, or an employee of a Member of Congress in connection with the making of a grant or cooperative agreement, the applicant shall complete and submit Standard Form (SF)-LLL, “Disclosure Form to Report Lobbying,” in accordance with its instructions. This form is available online at http://apply.grants.gov/apply/FormLinks?category=2, identified in the boxes as agency specific “Disclosure of Lobbying Activities (SF-LLL)” and at www.msha.gov.

(f) Non-profit status. Applicants must provide evidence of non-profit status, preferably from the Internal Revenue Service (IRS), if applicable. (This requirement does not apply to State and local government-supported institutions of higher education.)

(g) Accounting System Certification. An organization that receives less than $1 million annually in Federal grants must attach a certification stating that the organization (directly or through a designated qualified entity) has a functioning accounting system that meets the criteria below. The certification should attest that the organization's accounting system provides for the following:

(1) Accurate, current and complete disclosure of the financial results of each Federally sponsored project.

(2) Records that identify adequately the source and application of funds for Federally sponsored activities.

(3) Effective control over and accountability for all funds, property and other assets.

(4) Comparison of outlays with budget amounts.

(5) Written procedures to minimize the time elapsing between transfers of funds.

(6) Written procedures for determining the reasonableness, allocability, and allowability of cost.

(7) Accounting records, including cost accounting records that are supported by source documentation.

(h) Attachments. Any attachments such as resumes of key personnel or position descriptions, exhibits, information on prior government grants, and signed letters of commitment to the project.

2. Project Summary

The project summary is a short one-to-two page abstract that succinctly summarizes the proposed project and provides information about the applicant organization. The project summary must include the following information:

(a) Applicant. Provide the organization's full legal name and address.

(b) Project Director. Provide the name, title, street address and mailing address if it is different from the organization's street address, telephone and fax numbers, and e-mail address of the project director. The project director is the person who will be responsible for the day-to-day operation and administration of the program.

(c) Certifying Representative. Provide the name, title, street address and mailing address if it is different from the organization's street address, telephone and fax numbers, and e-mail address of the certifying representative. The certifying representative is the official in the organization who is authorized to enter into grant agreements.

(d) Funding requested. List how much Federal funding is being requested. If the organization is contributing non-Federal resources, also list the amount of non-Federal resources and the source of the funds.

(e) Grant Topic. List the grant topic and the location and number of miners that the organization has selected to train or describe the training materials to be created with these funds.

(f) Summary of the Proposed Project. Write a brief program summary of the proposed project. This summary must identify the key points of the proposal including an introduction describing the project activities and the expected outcome(s).

(g) Applicant Background. Describe the applicant, including its mission and a description of its membership, if any. Provide an organizational chart (the chart may be included as a separate page which will not count toward the page limit).

3. Technical Proposal

The technical proposal must demonstrate the applicant's capabilities to plan and implement a project or create educational materials to meet the objectives of this solicitation. MSHA's focus for this SGA is on training miners and developing training materials for mine rescue and mine emergency preparedness in underground coal mines. MSHA has two program goals that will be considered indicators of the success of the program as a whole. The following table explains the types of data grantees must provide and their relationship with the Agency's program goals and performance measures for the Brookwood-Sago grants.

Program goals | Performance measures | Data grantee provides
1. Agency creates more effective training and improves safety | Increase overall number of trainers trained | Number of training events during the period.
| Increase overall number of miners trained | Number of trainers trained. Number of miners trained during the current reporting period.
| Provide quality training with clearly stated goals and objectives for improving safety | Conduct and report pre-test and post-test results of trainees. Course evaluations of trainer and training materials. The extent to which others replicate (i.e., adopt or adapt) or institutionalize and continue the projects after grant funding ends.
2. Agency creates training materials and improves safety | Increase number of quality educational materials developed | Conduct and report pre-test and post-test results of the training materials.
| Provide quality training materials with clearly stated goals and objectives for improving safety Training materials are reproducible | Evaluation of training materials to include the target audience, statement of goals and objectives, learning level, instructions for using, additional material requirements, secondary purposes, adult learning principles and usability in the mine training environment.
|  | The extent to which others replicate (i.e., adopt or adapt) the funded projects.

The technical proposal narrative is not to exceed 10 single-sided pages, double spaced, 12-point font, and must contain the following sections: Program Design, Overall Qualifications of the Applicant, Impact or Outcomes and Evaluation, and Leveraging of Funds. Any pages over the 10-page limit will not be reviewed. Major sections and sub-sections of the proposal should be divided and clearly identified. MSHA will review and rate the technical proposal in accordance with the selection criteria specified in Part V.

(a) Program Design.

(1) Problem Statement/Need for Funds. Applicants must provide a clear and specific need for proposed activities. They must identify whether they are providing a training program or creating training materials or both. Applicants also must identify the number of individuals that will benefit from their training and education program; this should include identifying the type of mines (e.g., smaller mines, anthracite mines, large mine), the geographic location(s), and the number of workers and employers. Applicants must also identify other Federal funds they receive for similar activities.

(2) Quality of the Project Design. MSHA requires that each applicant include a 12-month workplan that correlates with the grant project period that will begin September 30, 2007, and end September 29, 2008. An outline of specific items required in the workplan follows.

(i) Plan Overview. Describe the plan for grant activities and the anticipated outcomes. The overall plan will describe such things as the development of training materials, the training content, recruiting of trainees, where or how training will take place, and the anticipated benefits to workers and employers receiving the training.

(ii) Activities. Break the overall plan down into activities or tasks. For each activity, explain what will be done, who will do it, when it will be done, and anticipated results of the activity. For training, discuss the subjects to be taught, the length of the training sessions, and training locations (classroom worksites). Describe how the applicant will recruit workers and/or employers for the training. (Note: Any commercially-developed training materials the applicant proposes to use in its training must undergo an MSHA review before being used.)

(iii) Quarterly Projections. For training and other quantifiable activities, estimate the quantities involved. For example, estimate how many classes will be conducted and workers and employers will be trained each quarter of the grant (grant quarters match calendar quarters, i.e., January to March, April to June) and also provide the training number totals for the full year. Quarterly projections are used to measure the actual performance against the plan. Applicants planning to conduct a train-the-trainer program should estimate the number of individuals to be trained during the grant period by those who received the train-the-trainer training. These second tier training numbers should be included only if the organization is planning to follow up with the trainers to obtain this data during the grant period.

(iv) Materials. Describe each educational material to be produced under the grant. Provide a timetable for developing and producing the material. The timetable must include provisions for an MSHA review of draft and camera-ready products. MSHA must review and approve training materials for technical accuracy and suitability of content before materials may be used in the grant program. Whether or not an applicant's project is to develop training materials only, the applicant should provide an overall plan that includes time for MSHA to review any materials produced.

(b) Overall Qualifications of the Applicant.

(1) Administrative and Program Capability. Briefly describe the organization's functions and activities, i.e., the applicant's management and internal controls. Relate this description of functions to the organizational chart. If the applicant has received within the last five years any other government (Federal, State or local) grant funding, the application must have, as an attachment (which will not count towards the page limit), information regarding these previous grants. This information must include the organization for which the work was done and the dollar value of the grant. If the applicant does not have previous grant experience, it may partner with an organization that has grant experience to manage the grant. If the organization uses this approach, the management organization must be identified and its grant program experience discussed.

Lack of past experience with Federal grants is not a determining factor, but an applicant should show a successful experience relevant to the opportunity offered in the application. Such experience could include staff members' experience with other organizations.

(2) Program Experience. Describe the organization's experience conducting the proposed mine training program or the type of program. Include program specifics such as program title, numbers trained, and duration of training. If creating training materials, include the title of other materials developed. Nonprofit organizations, including community-based and faith-based organizations that do not have prior experience in mine safety and health may partner with an established mine safety and health organization to acquire safety and health expertise.

(3) Staff Experience. Describe the qualifications of the professional staff you will assign to the program. Include resumes of staff already employed as an attachment (which will not count towards the page limit). If some positions are vacant, include position descriptions and minimum hiring qualifications instead of resumes. Staff should have, at a minimum, mine safety and health experience, training experience, or experience working with the mining community.

(c) Impact or Outcomes and Evaluations.

There are three types of evaluations that should be conducted. First, describe plans to evaluate the training sessions and/or training materials. Second, describe plans to evaluate the applicant's progress in accomplishing the grant work activities listed in the application. This includes comparing planned and actual accomplishments. Discuss who is responsible for taking corrective action if plans are not being met. Third, describe plans to assess the effectiveness of the training the applicant is conducting or the training materials. This will involve following up with an evaluation, or on-site review, if feasible, of people who attended the training to find out what changes were made to abate hazards or to incorporate the training in the workplace. For training materials, an evaluation of individuals on the clarity of the presentation, organization, and the information on the subject matter and whether they would use training materials is required. Include timetables for follow-up and for submitting a summary of the assessment results to MSHA.

(d) Leveraging of Funds.

Leveraged resources are cash or in-kind contributions obtained from sources other than the Federal government devoted to advancing the strategies described in the applicant's proposal. Applicants must include a description of any non-Federal contribution or commitments, including the source of funds and the estimated amount.

C. Submission Date, Times, and Addresses

The closing date for receipt of applications under this announcement is August 24, 2007. Grant applications must be submitted electronically through the Grants.gov site. The Grants.gov site provides all the information about submitting an application electronically through the site as well as the hours of operation. Interested parties must search for the downloadable application package by the CFDA number, 17.603.

Applications received by Grants.gov are electronically date and time stamped. An application must be fully uploaded and submitted (and must be date and time stamped by the Grants.gov system) before the application deadline date. Once an interested party has submitted an application, Grants.gov will notify the interested party with an automatic notification of receipt that contains a Grants.gov tracking number. (This notification indicates receipt by Grants.gov only, not receipt by MSHA.) MSHA then will retrieve the application from Grants.gov and send a second notification to the interested party by e-mail.

D. Intergovernmental Review

The Brookwood-Sago grants are not subject to Executive Order 12372, “Intergovernmental Review of Federal Programs.” MSHA, however, reminds applicants that if they are not operating MSHA-approved State training grant(s), contact the State grantee(s) and coordinate any training or educational program in order not to duplicate any training or educational program offered. Information about each state grant and the entity operating the state grant is provided online at: www.msha.gov/PROGRAMS/EPD4.HTM.

E. Funding Restrictions

MSHA will determine whether costs are allowable under the applicable Federal cost principles and other conditions contained in the grant award.

1. Allowable Costs

Grant funds may be spent on conducting training, conducting outreach and recruiting activities to increase the number of workers and employers participating in the program, developing educational materials, and on necessary expenses to support these activities. Allowable costs are determined by the applicable federal costs principles identified in Part VI.B. Program income earned during the award period shall be retained by the recipient, added to funds committed to the award, and used for the purposes and under the conditions applicable to the use of the grant funds.

2. Unallowable Costs

Grant funds may not be used for the following activities under this grant program:

(a) Any activity inconsistent with the goals and objectives of this SGA.

(b) Training on topics that are not targeted under this SGA;

(c) Duplicating training or services offered by MSHA or any MSHA State grant under section 503 of the Mine Safety and Health Act of 1977;

(d) Any equipment unless pre-approved and in writing by the MSHA grant officer;

(e) Administrative costs that exceed 15% of the total grant budget; and

(f) Any pre-award costs.

Unallowable costs also include any cost determined by MSHA that is not allowed according to the applicable cost principles or other conditions in the grant.

V. Application Review Information

A. Evaluation Criteria

MSHA will screen all applications to determine whether all required proposal elements are present and clearly identifiable. Those that do not comply with mandatory requirements will not be evaluated. The technical panels will review grant applications against the criteria listed below on the basis of 100 maximum points. Up to 10 additional points will be given for leveraging non-Federal resources.

1. Program Design—40 Points Total

(a) Problem Statement/Need for Funds. (3 points)

The proposed training and education program or training materials must address the recognition and prevention of safety and health hazards for mine rescue or mine emergency preparedness in underground coal mines.

(b) Quality of the Project Design. (25 points)

(1) The proposal to train miners and/or employers clearly estimates the number to be trained and clearly identifies the types of workers and employers to be trained.

(2) If the proposal contains a train-the-trainer program, the following information must be provided:

• What ongoing support the grantee will provide to new trainers;

• The number of individuals to be trained as trainers;

• The estimated number of courses to be conducted by the new trainers;

• The estimated number of students to be trained by these new trainers and a description of how the grantee will obtain data from the new trainers documenting their classes and student numbers if during the grant period.

(3) The work plan activities and training are described.

• The planned activities and training are tailored to the needs and levels of the miners and employers to be trained. Any special constituency to be served through the grant program is described, e.g., smaller mines, limited English proficiency miners. Organizations proposing to develop materials in languages other than English also will be required to provide an English version of the materials.

• If the proposal includes developing training materials, the workplan must include time during development for MSHA to review the educational materials for technical accuracy and suitability of content. If commercially-developed training products will be used for a training program, applicants also should plan for MSHA to review the materials before using the products in their grant programs.

• The utility of the educational materials is described.

• The outreach or process to find miners or trainees to receive the training is described.

(c) Replication. The extent a project will be replicated and the potential for the project to serve a variety of miners or mine sites. (4 points)

(d) Innovativeness. The novelty of the approach used. (3 points)

(e) MSHA's Performance Goals. The extent the proposed project will contribute to MSHA's performance goals. (5 points)

2. Budget—20 Points Total

(a) The budget presentation is clear and detailed. (15 points)

• The budgeted costs are reasonable.

• No more than 15% of the total budget is for administrative cost.

• The budget complies with Federal cost principles (which can be found in the applicable OMB Circulars) and with MSHA budget requirements contained in the grant application instructions.

(b) The application demonstrates that the applicant has strong financial management and internal control systems. (5 points)

3. Overall Qualifications of the Applicant—25 Points Total

(a) The applicant has administered, or will work with an organization that has administered, a number of different Federal and/or State grants in the past five years. The applicant may demonstrate this experience by having project staff that has experience administering Federal and/or State grants in the past five years. (6 points)

(b) The applicant applying for the grant demonstrates experience with mine safety and health teaching or providing mine safety and health educational programs. Applicants that do not have prior experience in providing mine safety and health training to workers or employers may partner with an established mine safety and health organization to acquire mine safety and health expertise. (13 points)

• Project staff has experience in mine safety and health, the specific topic chosen, and/or in training workers.

• Project staff has experience in recruiting, training and working with the population the organization proposes to serve.

• Applicant has experience in designing and developing training materials for a mining program.

• Applicant has experience in managing educational programs.

(c) Applicant demonstrates internal control and management oversight of the project. (6 points)

4. Impacts/Outcomes and Evaluations—15 Points Total

The proposal should include provisions for evaluating the organization's progress in accomplishing the grant work activities and accomplishments, evaluating training sessions, and evaluating the program's effectiveness and impact to determine if the safety and health training and services provided resulted in workplace change. The proposal should include plan to follow up with trainees to determine the impact the program has had in abating hazards and reducing worker injuries.

5. Leveraged Resources—10 Points Total

MSHA will award up to 10 additional rating points to applications that include non-Federal resources that expand the size and scope of project-related activities. To be eligible for the additional points, the applicant must list the resource(s), the nature of programmatic activities anticipated and any partnerships, linkages, or coordination of activities, cooperative funding, etc., including the monetary value of such contributions.

B. Review and Selection Process

A technical panel will rate each complete application against the criteria described in this SGA. One or more applicants may be selected as grantees on the basis of the initial application submission, or a minimally acceptable number of points may be established. MSHA may request final revisions to the applications, and then evaluate the revised applications. MSHA may consider any information that comes to its attention in evaluating the applications.

The panel recommendations are advisory in nature. The Assistant Secretary will make a final selection determination based on what is most advantageous to the Government, considering factors such as panel findings, geographic presence of the applicants or the areas to be served, Agency priorities, and the best value to the government, cost and other factors. The Assistant Secretary's determination for award under this SGA is final.

C. Anticipated Announcement and Award Dates

Announcement of these awards is expected to occur by September 15, 2007. The grant agreement will be signed by no later than September 29, 2007.

VI. Award Administration Information

A. Award Process

Organizations selected as potential grant recipients will be notified by a representative of the Assistant Secretary, usually the Grant Officer or his staff. An applicant whose proposal is not selected will be notified in writing. The fact that an organization has been selected as a potential grant recipient does not necessarily constitute approval of the grant application as submitted (revisions may be required).

Before the actual grant award, MSHA may enter into negotiations with the awardee concerning such matters as program components, staffing and funding levels, and administrative systems. If the negotiations do not result in an acceptable submittal, the Assistant Secretary reserves the right to terminate the negotiations and decline to fund the proposal.

B. Administrative and National Policy Requirements

All grantees will be subject to applicable Federal laws and regulations (including provisions of appropriations law) and applicable Office of Management and Budget (OMB) Circulars. The grant(s) awarded under this competitive grant program will be subject to the following administrative standards and provisions, if applicable:

• 29 CFR part 2, subpart D, Equal Treatment for Religious Organizations.

• 29 CFR parts 31, 32, 35 and 36, Nondiscrimination.

• 29 CFR part 93, Restrictions on Lobbying.

• 29 CFR part 94, Drug-free Workplace.

• 29 CFR part 95, Uniform Grant Requirements for Nonprofit Organizations.

• 29 CFR parts 96 and 99, Audits.

• 29 CFR part 97, Uniform Grant Requirements for States.

• 29 CFR part 98, Debarment and Suspension.

• 2 CFR part 220, Cost Principles for Educational Institutions.

• 2 CFR part 225, Cost Principles for State and Local Governments.

• 2 CFR part 230, Cost Principles for Other Nonprofit Organizations.

Administrative costs for these grants may not exceed 15%. Except as specifically provided, MSHA's acceptance of a proposal or MSHA's award of Federal funds to sponsor any program(s) does not constitute a waiver of any grant requirement or procedure. For example, if an application identifies a specific sub-contractor to provide certain services, the MSHA award does not provide a basis to sole-source the procurement (to avoid competition).

C. Special Program Requirements

1. MSHA Review of Educational Materials

MSHA will review all grantee-produced educational and training materials for technical accuracy and suitability of content during development and before final publication. MSHA also will review training curricula and purchased training materials for technical accuracy and suitability of content before the materials are used. Grantees developing training materials must follow all copyright laws and provide written certification that their materials are free from copyright infringements.

When grantees produce training materials, they must provide copies of completed materials to MSHA before the end of the grant period. Completed materials should be submitted to MSHA in hard copy and in digital format (CD-ROM/DVD) for publication on the MSHA Web site. Two copies of the materials must be provided to MSHA. Acceptable formats for training materials include Microsoft XP Word, PDF, PowerPoint, and any other format agreed upon by MSHA.

2. License

As listed in 29 CFR 95.36, the Department of Labor reserves a royalty-free, nonexclusive, and irrevocable right to reproduce, publish, or otherwise use for Federal purposes any work produced under a grant, and to authorize others to do so. Grantees must agree to provide the Department of Labor a paid-up, nonexclusive, and irrevocable license to reproduce, publish, or otherwise use for Federal purposes all products developed, or for which ownership was purchased, under an award. Such products include, but are not limited to, curricula, training models, technical assistance products, and any related materials. Such uses include, but are not limited to, the right to modify and distribute such products worldwide by any means, electronic, or otherwise.

3. Acknowledgement on Printed Materials

All approved grant-funded materials developed by a grantee shall contain the following disclaimer: “This material was produced under grant number XXXXX from the Mine Safety and Health Administration, U.S. Department of Labor. It does not necessarily reflect the views or policies of the U.S. Department of Labor, nor does mention of trade names, commercial products, or organizations imply endorsement by the U.S. Government.”

When issuing statements, press releases, request for proposals, bid solicitations, and other documents describing projects or programs funded in whole or in part with Federal money, all grantees receiving Federal funds must clearly state:

(a) The percentage of the total costs of the program or project that will be financed with Federal money;

(b) The dollar amount of federal financial assistance for the project or program; and

(c) The percentage and dollar amount of the total costs of the project or program that will be financed by non-governmental sources.

4. Use of U.S. Department of Labor (USDOL) and MSHA Logos

The USDOL or the MSHA logo may be applied to the grant-funded material including posters, videos, pamphlets, research documents, national survey results, impact evaluations, best practice reports, and other publications. The grantee(s) must consult with MSHA on whether the logo may be used on any such items prior to final draft or final preparation for distribution. In no event shall the USDOL or the MSHA logo be placed on any item until MSHA has given the grantee written permission to use either logo on the item.

5. Reporting

Grantees are required by Departmental regulations to submit financial and project reports, as described below, each calendar quarter. All reports are due no later than 30 days after the end of the calendar quarter and shall be submitted to MSHA. Grantees also are required to submit final reports 90 days after the end of the grant period. MSHA will provide further details on the format and process for each of the reports in the grantee orientation meeting.

(a) Financial Reports. The grantee shall submit financial reports on a quarterly basis.

(b) Technical Project Reports. After signing the agreement, the grantee shall submit technical project reports to MSHA at the end of each calendar quarter. Technical project reports provide both quantitative and qualitative information and a narrative assessment of performance for the preceding three-month period.

Between reporting dates, the grantee shall immediately inform MSHA of significant developments and/or problems affecting the organization's ability to accomplish work.

(c) Final Reports. At the end of the grant period, each grantee must provide a final financial report, a summary of its technical project reports, and an evaluation report.

H. Freedom of Information

Any information submitted in response to this SGA will be subject to the provisions of the Freedom of Information Act, as appropriate.

VII. Agency Contacts

Any questions regarding this SGA should be directed to Robert Glatter at Glatter.Robert@dol.gov or at 202-693-9570 (this is not a toll-free number); or the Grant Officer, Darrell A. Cooper at cooper.darrell@dol.gov or on 202-693-9831. MSHA's webpage at www.msha.gov is a valuable source of background for this initiative.

VIII. Office of Management and Budget Information Collection Requirements

This SGA requests information from applicants. This collection of information is approved under OMB Information Collection No. 1205-0458 (expires September 30, 2009).

According to the Paperwork Reduction Act of 1995, no persons are required to respond to a collection of information unless such collection displays a valid OMB control number. Public reporting burden for the grant application is estimated to average 20 hours per response, and 5 hours for grantee reporting. These estimates include time for reviewing instructions, searching existing data sources, gathering and maintaining the data needed, and completing and reviewing the collection of information. Each recipient who receives a grant award notice will be required to submit nine reports to MSHA. Each report will take approximately five hours to prepare. Send comments regarding the burden estimated or any other aspect of this collection of information, including suggestions for reducing this burden, to the U.S. Department of Labor, should be directed to Mine Safety and Health Administration, Robert Glatter at Glatter.Robert@dol.gov or at 202-693-9570 (this is not a toll-free number); or the Grant Officer, Darrell A. Cooper at cooper.darrell@dol.gov or on 202-693-9831. SEND APPLICATIONS TO MSHA, USING THE GRANTS.GOV SITE.

This information is being collected for the purpose of awarding a grant. The information collected through this “Solicitation for Grant Applications” will be used by the Department of Labor to ensure that grants are awarded to the applicant best suited to perform the functions of the grant. Submission of this information is required in order for the applicant to be considered for award of this grant. Unless otherwise specifically noted in this announcement, information submitted in the respondent's application is not considered to be confidential.

Authority: Section 14 of the MINER Act, 30 U.S.C. 965.

This 20th day of July, 2007.
Robert M. Friend,
Deputy Assistant Secretary for Mine Safety and Health.

[FR Doc. E7-14365 Filed 7-24-07; 8:45 am]

BILLING CODE 4510-43-P